ENVIRONMENTAL PROTECTION AGENCY

[EPA-HQ-OPP-2005-0258; FRL-8368-7]

Triadimefon; Product Cancellation Order

AGENCY: Environmental Protection Agency (EPA).

ACTION: Notice.

SUMMARY: This notice announces EPA's order for the cancellation, voluntarily requested by the registrant and accepted by the Agency, of a product containing the pesticide triadimefon, pursuant to section 6(f)(1) of the Federal Insecticide, Fungicide, and Rodenticide Act (FIFRA), as amended. This cancellation order follows an April 16, 2008 Federal Register Notice of Receipt of Request from the triadimefon registrant to voluntarily cancel its triadimefon product registration 432-1294. This is not the last triadimefon product registered for use in the United States. In the April 16, 2008 notice, EPA indicated that it would issue an order implementing the cancellation, unless the Agency received substantive comments within the 30-day comment period that would merit its further review of this request, or unless the registrant withdrew its request within this period. The Agency did not receive any comments on the notice. Further, the registrant did not withdraw its request. Accordingly, EPA hereby issues in this notice a cancellation order granting the requested cancellation. Any distribution, sale, or use of the triadimefon products subject to this cancellation order is permitted only in accordance with the terms of this order, including any existing stocks provisions.

DATES: The cancellations are effective June 25, 2008.

FOR FURTHER INFORMATION CONTACT: John W. Pates, Jr., Special Review and Reregistration Division (7508P), Office of Pesticide Programs, Environmental Protection Agency, 1200 Pennsylvania Ave., NW., Washington, DC 20460-0001; telephone number: (703) 308-8195; fax number: (703) 305-5290; e-mail address: pates.john@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2005-0258. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the cancellation, as requested by the registrant, of a certain triadimefon product registered under section 3 of FIFRA. The product is listed by registration number in Table 1of this unit.

Table 1.—Triadimefon Product Cancellation
EPA Registration Number | Product Name
432-1294 | Bayleton 50 Turf and Ornamental Fungicide in WSP and Bayleton 50 WP Fungicide

Table 2 of this unit includes the name and address of record for the registrant of the product in Table 1 of this unit by EPA company number.

Table 2.—Registrant of the Canceled Triadimefon Product
EPA Company Number | Company Name and Address
432 | Bayer Environmental Science 2 T.W. Alexander Drive Research Triangle Park, NC 27709

III. Summary of Public Comments Received and Agency Response to Comments

During the public comment period provided, EPA received no comments in response to the April 16, 2008 Federal Register notice announcing the Agency's receipt of the request for voluntary cancellation of triadimefon.

IV. Cancellation Order

Pursuant to FIFRA section 6(f), EPA hereby approves the requested cancellation of the triadimefon registration identified in Table 1 of Unit II. Accordingly, the Agency orders that the triadimefon product registration identified in Table 1 of Unit II. is hereby canceled. Any distribution, sale, or use of existing stocks of the product identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. Typically, the Agency will permit a registrant to sell and distribute existing stocks for one year after the date the cancellation request was received. Such policy is in accordance with the Agency's statement of policy as set forth in the Federal Register of June 26, 1991 (56 FR 29362) (FRL-3846-4). However, in this case, because Bayer Environmental Science has provided information to the Agency that it is not likely that any remaining existing stocks are out in the channels of trade, the Agency does not believe that there is a need to permit the registrant to sell or distribute existing stocks for a period of one year. In addition, the Agency does not believe that there is a need for persons other than the registrant to continue to sell and/or use existing stocks of canceled products. The Agency believes that end users have had sufficient time to exhaust those existing stocks. Therefore, the last date for end use of the product is effective on the date of publication of this cancellation order in the Federal Register. Pursuant to FIFRA section 6(f), the Agency hereby approves the requested cancellation of Bayleton 50 Turf and Ornamental Fungicide in WSP and Bayleton 50 WP Fungicide (EPA Registration # 432-1294).

List of Subjects

Environmental protection, Pesticides and pests.

Dated: June 17, 2008.
Steven Bradbury,
Director, Special Review and Reregistration Division, Office of Pesticide Programs.

[FR Doc. E8-14113 Filed 6-24-08; 8:45 am]

BILLING CODE 6560-50-S